DEPARTMENT OF TRANSPORTATION

Federal Aviation Administration

14 CFR Part 73

[Docket No. FAA-2011-0104; Airspace Docket No. 11-AEA-2]

Proposed Amendment to and Establishment of Restricted Areas, Warren Grove; NJ

AGENCY: Federal Aviation Administration (FAA), DOT.

ACTION: Notice of proposed rulemaking (NPRM).

SUMMARY: This action proposes to establish two new restricted areas at the Warren Grove Range, NJ, in order to raise the maximum altitude of the range from the current 14,000 feet mean sea level (MSL), up to flight level (FL) 230; and to expand the lateral dimensions of the range airspace. In addition, the using agency for all Warren Grove restricted areas would be updated to reflect the current organization tasked with that responsibility. The New Jersey Air National Guard requested that the FAA take this action due to the increased need for aircrew training in high-altitude weapons delivery tactics.

DATES: Comments must be received on or before April 18, 2011.

ADDRESSES: Send comments on this proposal to the U.S. Department of Transportation, Docket Operations, M-30, 1200 New Jersey Avenue, SE., West Building Ground Floor, Room W12-140, Washington, DC 20590-0001; telephone: (202) 366-9826. You must identify FAA Docket No. FAA-2011-0104 and Airspace Docket No. 11-AEA-2, at the beginning of your comments. You may also submit comments through the Internet at http://www.regulations.gov. Comments on environmental and land use aspects to should be directed to: Mr. Harry Knudsen, Chief, Environmental Planning, National Guard Bureau, ANG/CEVP, 3500 Fetchet Avenue, Andrews AFB, MD 20762; telephone: (301) 836-8143.

FOR FURTHER INFORMATION CONTACT: Paul Gallant, Airspace, Regulations and ATC Procedures Group, Office of Airspace Services, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2011-0104 and Airspace Docket No. 11-AEA-2) and be submitted in triplicate to the Docket Management System (see ADDRESSES section for address and phone number). You may also submit comments through the Internet at http://www.regulations.gov.

Commenters wishing the FAA to acknowledge receipt of their comments on this action must submit with those comments a self-addressed, stamped postcard on which the following statement is made: “Comments to FAA Docket No. FAA-2011-0104 and Airspace Docket No. 11-AEA-2.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received and any final disposition in person at the Dockets Office (see ADDRESSES section for address and phone number) between 9 a.m. and 5 p.m., Monday through Friday, except Federal holidays. An informal docket may also be examined during normal business hours at the office of the Operations Support Group, Eastern Service Center, Federal Aviation Administration, 1701 Columbia Ave., College Park, GA 30337.

Persons interested in being placed on a mailing list for future NPRM's should contact the FAA's Office of Rulemaking, (202) 267-9677, for a copy of Advisory Circular No. 11-2A, Notice of Proposed Rulemaking Distribution System, which describes the application procedure.

Background

Military use of the airspace near Warren Grove, Ocean County, NJ, can be traced back to World War II. Today, the Warren Grove Range consists of five restricted areas designated R-5002A, B, C, D and E. The range is used for a wide variety of military air and ground activities; including, but not limited to, air-to-surface weapons delivery training, laser systems, night vision goggle training, cargo air drops, parachute drops of personnel, and joint air and ground forces exercises. Current real-world combat requirements are driving a need for increased aircrew training in high altitude weapons delivery tactics. This training requires higher altitudes, along with increased lateral space in the high and medium altitude regimes. With its maximum altitude of 14,000 feet MSL, and lateral dimensions of roughly 11 nautical miles (NM) by 8 NM, the existing Warren Grove Range does not have enough space to contain this training.

Proposal

The FAA is proposing an amendment to 14 CFR part 73 to establish two new restricted areas (designated R-5002F and R-5002G) at the Warren Grove Range, NJ. This action would raise the restricted area ceiling from 14,000 feet MSL to FL 230 and would expand lateral limits of restricted airspace at the range. R-5002F would overlie the existing R-5002A, and R-5002E, and part of R-5002B, and would extend from 14,000 feet MSL up to, but not including, FL 200. A second proposed restricted area, R-5002G, would extend from FL 200 up to FL 230. R-5002G would overlie the proposed R-5002F; and, to provide the required expanded lateral space between FL 200 and FL 230, the boundaries of R-5002G would extend approximately 15 NM to the northeast, and 8 NM to the east, of the current range boundaries.

It should be noted that, since the floor of R-5002G is at FL 200, it would lie above the VOR Federal airway structure and therefore would have no impact on the airways in the vicinity. Also, there are no jet routes that would be affected by this proposal.

In addition to the proposed establishment of R-5002F and R-5002G, the following minor changes to the descriptions of the existing Warren Grove restricted areas would be made. The using agency for the five existing areas would be changed from the “108th Air Refueling Wing, McGuire AFB, NJ,” to the “177th Fighter Wing, Atlantic City, NJ.” This change is needed to reflect current organizational responsibilities. The new using agency would also apply to the proposed R-5002F and R-5002G. A minor wording change would be made to the designated altitude ceiling of restricted areas R-5002A, B and E. The current wording “to 14,000 feet MSL” would be changed to read “to but not including 14,000 feet MSL.” This change is needed to avoid overlap with the 14,000 feet MSL floor of the new area R-5002F, which would overlie R-5002A, B and E. The boundaries and times of use of R-5002A, B, C, D and E would not be changed by this proposal. The designated altitudes for R-5002C and D would remain as currently published.

Use of the proposed R-5002F and G would be coordinated on a real time basis. The two areas would only be activated with concurrent release by New York Air Route Traffic Control Center (ARTCC) and Washington ARTCC. To minimize potential impact to IFR traffic flows, the FAA will only authorize activation of the proposed areas when New York and Washington ARTCCs determine there would be minimal to no impact on IFR traffic operating in the affected area. In addition, the FAA would be able to recall the proposed airspace, if needed, on five minutes notice. A Letter of Agreement between New York ARTCC, Washington ARTCC and the using agency would define the roles, responsibilities and procedures for the activation of R-5002F and G. Pilots seeking information about the activity status of R-5002 should contact New York ARTCC on the frequency listed in the “Special Use Airspace” panel of the Washington Sectional Aeronautical Chart. New York ARTCC will continue to provide VFR traffic advisories, as prescribed in current FAA directives, to those aircraft requesting them.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it would restructure the restricted airspace at the Warren Grove Range, NJ, to enhance safety and accommodate essential military training.

Environmental Review

This proposal will be subjected to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.50 [Amended]

2. § 73.50 is amended as follows:

* * * * *

1. R-5002A Warren Grove, NJ [Amended]

By removing the current designated altitudes and using agency and substituting the following:

Designated altitudes. Surface to, but not including, 14,000 feet MSL.

Using agency. New Jersey ANG, 177th Fighter Wing, Atlantic City, NJ.

* * * * *

2. R-5002B Warren Grove, NJ [Amended]

By removing the current designated altitudes and using agency and substituting the following:

Designated altitudes. 1,000 feet MSL to, but not including, 14,000 feet MSL.

Using agency. New Jersey ANG, 177th Fighter Wing, Atlantic City, NJ

* * * * *

3. R-5002C Warren Grove, NJ [Amended]

By removing the current using agency and substituting the following:

Using agency. New Jersey ANG, 177th Fighter Wing, Atlantic City, NJ.

* * * * *

4. R-5002D Warren Grove, NJ [Amended]

By removing the current using agency and substituting the following:

Using agency. New Jersey ANG, 177th Fighter Wing, Atlantic City, NJ.

* * * * *

5. R-5002E Warren Grove, NJ [Amended]

By removing the current designated altitudes and using agency and substituting the following:

Designated altitudes. 3,500 feet MSL to, but not including, 14,000 feet MSL.

Using agency. New Jersey ANG, 177th Fighter Wing, Atlantic City, NJ.

* * * * *

6. R-5002F Warren Grove, NJ [New]

Boundaries. Beginning at lat. 39°43′25″ N., long. 74°17′36″ W.; to lat. 39°40′10″ N., long. 74°20′14″ W.; to lat. 39°38′50″ N., long. 74°21′19″ W.; to lat. 39°38′25″ N., long. 74°22′05″ W.; to lat. 39°38′25″ N., long. 74°24′19″ W.; to lat. 39°38′30″ N., long. 74°29′29″ W.; to lat. 39°39′20″ N., long. 74°29′59″ W.; to lat. 39°44′50″ N., long. 74°24′39″ W.; to lat. 39°44′50″ N., long. 74°19′19″ W.; to the point of beginning.

Designated altitudes. 14,000 feet MSL to, but not including, FL 200.

Time of designation. Sunrise to sunset, other times as activated by NOTAM issued at least 48 hours in advance.

Controlling agency. FAA, New York ARTCC.

Using agency. New Jersey ANG, 177th Fighter Wing, Atlantic City, NJ.

* * * * *

7. R-5002G Warren Grove, NJ [New]

Boundaries. Beginning at lat. 39°49′02″ N., long. 74°00′45″ W.; to lat. 39°38′18″ N., long. 74°12′34″ W.; to lat. 39°38′25″ N., long. 74°22′05″ W.; to lat. 39°38′25″ N., long. 74°24′19″ W.; to lat. 39°38′30″ N., long. 74°29′29″ W.; to lat. 39°39°20″ N., long. 74°29′59″ W.; to lat. 39°44′50″ N., long. 74°24′39″ W.; to lat. 39°49′02″ N., long. 74°16′18″ W.; to point of beginning.

Designated altitudes. FL 200 to FL 230.

Time of designation. Sunrise to sunset, other times as activated by NOTAM issued at least 48 hours in advance.

Controlling agency. FAA, New York ARTCC.

Using agency. New Jersey ANG, 177th Fighter Wing, Atlantic City, NJ.

Issued in Washington, DC, on February 22, 2011.
Edith V. Parish,
Manager, Airspace, Regulations and ATC Procedures Group.

[FR Doc. 2011-4576 Filed 3-1-11; 8:45 am]

BILLING CODE 4910-13-P